ENVIRONMENTAL PROTECTION AGENCY

[FRL-9973-32-0A]

Farm, Ranch, and Rural Communities Advisory Committee (FRRCC); Notice of Charter Renewal

AGENCY: Environmental Protection Agency (EPA).

ACTION: Notice.

Notice is hereby given that the Environmental Protection Agency (EPA) has determined that, in accordance with the provisions of the Federal Advisory Committee Act (FACA), 5 U.S.C. App. 2, the Farm, Ranch, and Rural Communities Advisory Committee (FRRCC) is in the public interest and is necessary in connection with the performance of EPA's duties. Accordingly, the FRRCC will be renewed for an additional two-year period. The purpose of the FRRCC is to provide advice and recommendations to the EPA Administrator on environmental issues and policies that are of importance to agriculture and rural communities. Inquiries may be directed to Hema Subramanian, Designated Federal Officer for FRRCC, U.S. EPA, (Mail Code 1 101A), 1200 Pennsylvania Avenue NW, Washington, DC 20460, or subramanian.hema@epa.gov.

Dated: January 17, 2018.
Jeffrey Sands,
Senior Advisor to the Administrator for Agriculture.

[FR Doc. 2018-02050 Filed 1-31-18; 8:45 am]

BILLING CODE 6560-50-P